DEPARTMENT OF THE INTERIOR

Bureau of Ocean Energy Management

30 CFR Parts 550, 551, 553, 556, 560, 580, 582, and 585

[Docket ID: BOEM-2025-0010]

RIN 1010-AE25

Restoring Names That Honor American Greatness: Gulf of America

AGENCY: Bureau of Ocean Energy Management, Interior.

ACTION: Final rule.

SUMMARY: The Bureau of Ocean Energy Management (BOEM) is amending its regulations that implement the Outer Continental Shelf Lands Act (OCSLA) to revise language reading “Gulf of Mexico” or the associated acronym “GOM” to read “Gulf of America” or the associated acronym “GOA.” Executive Order 14172 directs agencies to make this change. This final rule ensures that these regulations comply with this order.

DATES: This final rule is effective on June 6, 2025.

FOR FURTHER INFORMATION CONTACT: Karen Thundiyil, Director, Office of Regulatory Affairs, BOEM, 1849 C Street NW, Washington, DC 20240, at email address Karen.Thundiyil@boem.gov, or at telephone number (202) 742-0970.

SUPPLEMENTARY INFORMATION:

Preamble acronyms and abbreviations. Multiple acronyms are included in this preamble. While this list may not be exhaustive, to ease the reading of this preamble and for reference purposes, BOEM explains the following acronyms here:

ANCSA Alaska Native Claims Settlement Act

BOEM Bureau of Ocean Energy Management

CFR Code of Federal Regulations

CRA Congressional Review Act

DOI Department of the Interior

E.O. Executive Order

GOA Gulf of America

GOM Gulf of Mexico

GNIS Geographic Names Information System

IC Information Collection

NEPA National Environmental Policy Act

OIRA Office of Information and Regulatory Affairs (a component of OMB)

OMB Office of Management and Budget

OCS Outer Continental Shelf

OCSLA Outer Continental Shelf Lands Act

PRA Paperwork Reduction Act

Background information. On January 20, 2025, the President signed Executive Order 14172, Restoring Names that Honor American Greatness. This Executive Order directed the Secretary of the Interior (Secretary) to rename the Gulf of Mexico as the Gulf of America. In response, this final rule revises the Department of the Interior (DOI or the Department) regulations, which are administered by BOEM and are found in 30 CFR chapter V, to reflect the name Gulf of America. This final rule is limited to making nomenclature changes in conformance with the above-mentioned Executive Order. Thus, BOEM has determined that this rule is not subject to the notice and comment requirements of the Administrative Procedure Act (APA). Additionally, BOEM has determined that there is good cause for making this technical amendment final without prior proposal and opportunity for comment because the revisions are not substantive and have no impact on the regulatory requirements of the affected parts. BOEM has determined that public comment on such administrative changes is unnecessary and that there is good cause under the APA for proceeding with a final rule. Furthermore, because a notice of proposed rulemaking and opportunity for public comment are not required to be given for this rule under the APA or any other law, the analytical requirements of the Regulatory Flexibility Act are not applicable. Accordingly, this rule is issued in final form. There is good cause to make this rule effective in fewer than 30 days after publication in the Federal Register because the revisions are administrative in nature. Therefore, this final rule is effective upon publication.

Organization of this document. The information in this preamble is organized as follows:

I. General Information

A. Executive Summary

1. Purpose of This Regulatory Action

2. Summary of Major Provisions

B. Does this action apply to me?

C. Where can I get a copy of this document and other related information?

II. Background

A. BOEM Statutory and Regulatory Authority and Responsibilities

III. Section-by-Section Analysis

IV. Statutory and Executive Order Reviews

A. Executive Orders 12866: Regulatory Planning and Review, as Amended by Executive Order 13563: Improving Regulation and Regulatory Review

B. Regulatory Flexibility Act (RFA)

C. Small Business Regulatory Enforcement Fairness Act

D. Unfunded Mandates Reform Act (UMRA)

E. Executive Order 12630: Governmental Actions and Interference With Constitutionally Protected Property Rights

F. Executive Order 13132: Federalism

G. Executive Order 12988: Civil Justice Reform

H. Executive Order 13175: Consultation and Coordination With Indian Tribal Governments

I. Paperwork Reduction Act (PRA)

J. National Environmental Policy Act (NEPA)

K. Data Quality Act

L. Executive Order 13211: Actions Concerning Regulations That Significantly Affect Energy Supply, Distribution, or Use

M. Congressional Review Act (CRA)

I. General Information

A. Executive Summary

1. Purpose of This Regulatory Action

Executive Order 14172 directs the Interior Department to take action to rename landmarks in accordance with the outlined directives. Section 4 of the Executive Order directs the Secretary to rename the Gulf of Mexico to the Gulf of America, update the Geographic Names Information System (GNIS) to reflect this change, and remove all references to the Gulf of Mexico. Agency maps, contracts, and other documents are to be updated accordingly. In the BOEM-administered portions of the CFR (30 CFR parts 500-599), there are multiple references to the Gulf of Mexico and the GOM acronym. This rule outlines those changes and where they need to occur.

2. Summary of Major Provisions

This final action replaces references to the Gulf of Mexico and GOM with the Gulf of America and GOA, respectively, in the regulations at 30 CFR parts 550, 551, 553, 556, 560, 580, 582, and 585.

B. Does this action apply to me?

Entities potentially affected by this action are any end user of maps, Federal Regulations, or documents that include the Gulf of Mexico/GOM in text. However, these are administrative changes only and do not affect any legal rights, obligations, or interests of any affected party.

C. Where can I get a copy of this document and other related information?

In addition to being available in the docket, BOEM will post an electronic copy of the documents related to these rulemaking changes at: https://www.boem.gov/about-boem/regulations-guidance/published-rules.

II. Background

A. BOEM Statutory and Regulatory Authority and Responsibilities

Section 5 of OCSLA (43 U.S.C. 1334) authorizes the Secretary to issue regulations to administer leasing for mineral development on the Outer Continental Shelf (OCS). Section 5(a) of OCSLA (43 U.S.C. 1334(a)) authorizes the Secretary to “prescribe such rules and regulations as may be necessary to carry out [provisions of OCSLA]” related to leasing on the OCS. This rule only makes administrative changes to names used in specific parts of these regulations.

III. Section-by-Section Analysis

With this final rule, BOEM is amending the regulatory text as follows.

A. 30 CFR Part 550 (Oil and Gas and Sulfur Operations in the Outer Continental Shelf)

§ 550.105 Definitions

Section 550.105 contains terms used in this part and lists the associated meaning or definition. Eastern Gulf of Mexico is updated to Eastern Gulf of America, and the two uses in the associated definition are also changed accordingly. The Western Gulf of Mexico is changed to Western Gulf of America.

§ 550.115 How do I determine well producibility?

Section 550.115 uses the acronym GOM twice. This is changed to GOA.

§ 550.116 How do I determine producibility if my well is in the Gulf of Mexico?

The title of section 550.116 is updated to the Gulf of America. The use of GOM is changed to GOA.

§ 550.201 What plans and information must I submit before I conduct any activities on my lease or unit?

Section 550.201 (a) Plans and Documents contains a table of items that must be submitted to BOEM before certain activities can proceed. Item (2), the Development and Production Plan (DPP), must be submitted before you may “Conduct any development or production activities on a lease or unit in any OCS area other than the Western Gulf of Mexico.” This is changed to Western Gulf of America. Item (3), the Development Operations Coordination Document (DOCD), must be submitted before you “Conduct any development or production activities on a lease or unit in the Western GOM.” GOM is changed to GOA.

§ 550.225 What information on the onshore support facilities you will use must accompany the EP?

Section 550.225 (a)(2) refers to the Western GOM. This is changed to Western GOA.

§ 550.269 How will BOEM evaluate the environmental impacts of the DPP or DOCD?

Section 550.269 (a) refers to the Western and Central GOM Planning Areas. This is changed to Western and Central GOA Planning Areas.

§ 550.1495 How do I demonstrate financial solvency?

Section 550.1495 (a)(2) contains the contact information for the Gulf of Mexico OCS Region Office. Both uses of Gulf of Mexico are changed to the Gulf of America by this Final Rule.

B. 30 CFR Part 551 (Geological and Geophysical (G&G) Explorations of the Outer Continental Shelf)

§ 551.5 Applying for Permits or Filing Notices

Section 551.5 (d)(2) refers to office locations for filing applications for permits and provides the contact information for the Gulf of Mexico office. The two uses of Gulf of Mexico are changed to the Gulf of America.

C. 30 CFR Part 553 (Oil Spill Financial Responsibility for Offshore Facilities)

§ 553.45 Where do I send my OSFR evidence?

Section 553.45 provides the submission address for the Gulf of Mexico Region office. This is changed to the Gulf of America Region office.

D. 30 CFR Part 556 (Leasing of Sulfur or Oil and Gas in the Outer Continental Shelf)

§ 556.102 Authority

Section 556.102 (e)(2) refers to the Gulf of Mexico. This reference is changed to the Gulf of America. The usage of the term in “Gulf of Mexico Energy Security Act of 2006” is not being changed as the Executive Order does not change the name of existing statutes.

§ 556.105 Acronyms and Definitions

Section 556.105(a) includes the term Gulf of Mexico and its acronym GOM; this acronym is changed to GOA and the definition for the acronym is changed to the Gulf of America. The acronym GOM found in the reference to the Central Planning Area of the GOM (CPA) is changed to GOA. The acronym GOM is also found in the reference to the Western Planning Area (WPA). This is changed to GOA. The definition of Central Planning Area (CPA) includes a reference to the Gulf of Mexico. This reference is changed to the Gulf of America. The definition of Eastern Planning Area includes a reference to the Gulf of Mexico. This reference is changed to the Gulf of America. The definition of Western Planning Area also includes a reference to the Gulf of Mexico. This reference is changed to the Gulf of America.

§ 556.309 Does BOEM offer blocks in a sale that is not on the Five-Year program schedule (called a supplemental sale)?

Section 556.309 (c) refers to the Central and Western Gulf of Mexico Planning Areas. This reference is changed to the Central and Western Gulf of America Planning Areas.

§ 556.900 Financial Assurance Requirements for an Oil and Gas or Sulfur Lease

Section 556.900 (b)(1) refers to the Gulf of Mexico. This reference is changed to the Gulf of America.

E. 30 CFR Part 560 (Outer Continental Shelf Oil and Gas Leasing)

§ 560.201 What definitions apply to this subpart?

Section 560.201 contains two definitions that mention the Gulf of Mexico. These are changed to the Gulf of America in the definitions of Eligible Lease and Pre-Act Lease.

§ 560.221 When does a lease issued in a sale held after November 2000 get a royalty suspension?

Section 560.221 paragraph (b)(1) refers to the Gulf of Mexico. This reference is changed to the Gulf of America.

F. 30 CFR Part 580 (Prospecting for Minerals Other Than Oil, Gas, and Sulphur on the Outer Continental Shelf)

§ 580.13 Where must I send my application or notification?

Section 580.13(b) refers to office locations for filing applications or notifications and provides the contact information for the Gulf of Mexico office. The two uses of Gulf of Mexico are changed to the Gulf of America.

G. 30 CFR Part 582 (Operations in the Outer Continental Shelf for Minerals Other Than Oil, Gas, and Sulphur)

§ 582.40 Bonds

Section 582.40 (f)(1) refers to the Gulf of Mexico. This reference is changed to the Gulf of America.

H. 30 CFR Part 585 (Renewable Energy on the Outer Continental Shelf)

§ 585.700 What requirements must I include in my SAP, COP, or GAP regarding air quality?

Section 585.700 (a) includes a chart of compliance requirements for the Clean Air Act and 40 CFR part 55 regulations. Table item (1) includes two references to the Gulf of Mexico. These references are changed to the Gulf of America. Section 585.700 (b) includes a reference to the Gulf of Mexico. This reference is changed to the Gulf of America.

IV. Statutory and Executive Order Reviews

A. Executive Orders 12866: Regulatory Planning and Review, as Amended by Executive Order 13563: Improving Regulation and Regulatory Review

E.O. 12866 gives OMB the authority to review regulatory actions that are categorized as “significant”; i.e., those actions that are likely to result in a rule that may:

• Have an annual effect on the economy of $100 million or more or adversely affect in a material way the economy; a sector of the economy; productivity; competition; jobs; the environment; public health or safety; or state, local or tribal governments or communities;

• Create a serious inconsistency or otherwise interfere with an action taken or planned by another agency;

• Materially alter the budgetary impacts of entitlements, grants, user fees or loan programs or the rights and obligations of recipients thereof; or

• Raise novel legal or policy issues arising out of legal mandates, the President's priorities or the principles set forth in the Executive Order.

E.O. 12866 provides that the Office of Information and Regulatory Affairs (OIRA) in the Office of Management and Budget (OMB) will review all significant rules. OIRA has determined that this action is not a significant regulatory action, and therefore, it was not submitted to OMB for review.

E.O. 13563 reaffirms the principles of E.O. 12866 while calling for improvements in the Nation's regulatory system to promote predictability and reduce uncertainty, and to use the best, most innovative, and least burdensome tools for achieving regulatory ends. E.O. 13563 directs agencies to consider regulatory approaches that reduce burdens and maintain flexibility and freedom of choice for the public where these approaches are relevant, feasible, and consistent with regulatory objectives. BOEM has developed this rule in a manner consistent with these requirements.

B. Regulatory Flexibility Act (RFA)

The RFA, 5 U.S.C. 601-612, requires agencies to prepare a regulatory flexibility analysis for any rule subject to notice and comment rulemaking requirements under the Administrative Procedure Act (APA) unless the rule will not have a significant economic impact on a substantial number of small entities.

The RFA applies only to rules for which an agency is required to first publish a proposed rule. See 5 U.S.C. 603(a) and 604(a). Because no proposed rule was published for this nomenclature change, no RFA analysis is required.

C. Small Business Regulatory Enforcement Fairness Act (SBREFA)

The SBREFA, 5 U.S.C. 804(2), requires BOEM to perform a regulatory flexibility analysis, provide guidance, and help small businesses comply with statutes and regulations for major rulemakings. This action is not subject to the SBREFA because it: (1) does not have an annual effect on the economy of $100 million or more; (2) will not cause a major increase in costs or prices for consumers, individual industries, Federal, State, or local government agencies, or geographic regions; and (3) does not have significant adverse effects on competition, employment, investment, productivity, innovation, or the ability of U.S.-based enterprises to compete with foreign-based enterprises.

BOEM anticipates the final rule would have neither significant employment nor small business impacts; nor cause major price increases for consumers, businesses, or governments; nor significantly degrade competition, employment, investment, productivity, innovation, or the ability of U.S. businesses to compete against foreign businesses. The rule only makes a nomenclature change in the regulatory text that mentions the specific terms included in the E.O.

Small businesses may send comments on the actions of Federal employees who enforce or otherwise determine compliance with Federal regulations to the Small Business and Agriculture Regulatory Enforcement Ombudsman, and to the Regional Small Business Regulatory Fairness Board. The Ombudsman evaluates these actions annually and rates each agency's responsiveness to small business. If you wish to comment on actions by employees of BOEM, call 1-888-REG-FAIR (1-888-734-3247).

D. Unfunded Mandates Reform Act (UMRA)

The UMRA, 2 U.S.C. 1531—1538, requires Federal agencies, unless otherwise prohibited by law, to assess the effects of regulatory actions on state, local and Tribal governments, and the private sector. Section 202 of UMRA generally requires Federal agencies to prepare a written statement, including a cost-benefit analysis, for each proposed and final rule with “Federal mandates” that may result in expenditures by state, local, and Tribal governments, in the aggregate, or to the private sector of $195 million or more in any one year. BOEM has determined this action does not contain any unfunded mandate as described in UMRA 2, U.S.C. 1531—1538, and does not significantly or uniquely affect small groups.

The action imposes no enforceable duty on any state, local, or tribal governments or the private sector.

E. Executive Order 12630: Governmental Actions and Interference With Constitutionally Protected Property Rights

E.O. 12630, Governmental Actions and Interference with Constitutionally Protected Property Rights, ensures that government actions affecting the use of private property are undertaken on a well-reasoned basis with due regard for the potential financial impacts imposed on the government. This action does not affect a taking of private property or otherwise have taking implications under E.O. 12630. A takings implication assessment is not required.

F. Executive Order 13132: Federalism

Executive Order 13132 (64 FR 43255, August 4, 1999) revoked and replaced Executive Orders 12612 (Federalism) and 12875 (Enhancing the Intergovernmental Partnership). Executive Order 13132 took effect on November 2, 1999, and thus applies to actions published on or after November 2, 1999. Sections 3 and 6 of Executive Order 13132 apply to policies with federalism implications, defined in the Executive Order as including actions that have “substantial direct effects on the States, on the relationship between the national government and the States, or on the distribution of power and responsibilities among the various levels of government.”

Regulatory actions that have substantial direct effects on the States, on the relationship between the national government and the States, or on the distribution of power and responsibilities among the various levels of government are subject to E.O. 13132. Under the criteria in section 1 of E.O. 13132, this rule does not have sufficient federalism implications to warrant the preparation of a federalism summary impact statement. It will not have substantial direct effects on the states, on the relationship between the national government and the states, or on the distribution of power and responsibilities among the various levels of government.

G. Executive Order 12988: Civil Justice Reform

E.O. 12988 requires that rules:

(1) Meet the criteria of section 3(a) requiring that all regulations be reviewed to eliminate errors and ambiguity and be written to minimize litigation; and

(2) Meet the criteria of section 3(b)(2) requiring that all regulations be written in clear language and contain clear legal standards.

This rule complies with the requirements of E.O. 12988.

H. Executive Order 13175: Consultation and Coordination With Indian Tribal Governments

E.O. 13175 defines polices that have Tribal implications as regulations, legislative comments or proposed legislation, and other policy statements or actions that will or may have a substantial direct effect on one or more Indian Tribes, or on the relationship between the Federal Government and one or more Indian Tribes. Additionally, the DOI's consultation policy for Tribal Nations and ANCSA Corporations, as described in Departmental Manual part 512 chapter 4, expands on the above definition from E.O. 13175 and requires that BOEM invite Indian Tribes and ANCSA Corporations “early in the planning process to consult whenever a Departmental plan or action with Tribal Implications arises.” BOEM strives to strengthen its government-to-government relationships with Tribal Nations through a commitment to consultation with Tribes, recognition of their right to self-governance and Tribal sovereignty, and honoring BOEM's trust responsibilities for Tribal Nations.

BOEM evaluated the proposed rule under the DOI's consultation policy and under the criteria in E.O. 13175 and determined that it has no substantial direct effects on federally recognized Indian Tribes and that consultation under the Department's tribal consultation policy is not required.

I. Paperwork Reduction Act (PRA)

This rule does not contain information collection requirements, and a submission to the OMB under the Paperwork Reduction Act (44 U.S.C. 3501 et seq.) is not required. An agency may not conduct or sponsor, and a person is not required to respond to, a collection of information unless it displays a currently valid OMB control number.

J. National Environmental Policy Act (NEPA)

This rule does not constitute a major Federal action significantly affecting the quality of the human environment. A detailed environmental analysis under NEPA is not required because the final rule is covered by a categorical exclusion (see 43 CFR 46.205). This final rule meets the criteria set forth at 43 CFR 46.210(i) for a Departmental categorical exclusion in that this proposed rule is “of an administrative, financial, legal, technical, or procedural nature.” BOEM has also determined that the final rule does not involve any of the extraordinary circumstances listed in 43 CFR 46.215 that would require further analysis under NEPA.

K. Data Quality Act

In promulgating this rule, BOEM did not conduct or use a study, experiment, or survey requiring peer review under the Data Quality Act (Pub. L. 106-554, app. C, sec. 515, 114 Stat. 2763, 2763A-153-154). In accordance with the Data Quality Act, the Department has issued guidance regarding the quality of information that it relies upon for regulatory decisions. This guidance is available at the Department's website at: https://www.doi.gov/ocio/policy-mgmt-support/information-and-records-management/iq.

L. Executive Order 13211: Actions Concerning Regulations That Significantly Affect Energy Supply, Distribution, or Use

Executive Order 13211 was issued on May 22, 2001, and requires Federal agencies to prepare a “Statement of Energy Effects” when undertaking certain regulatory actions. A Statement of Energy Effects describes the adverse effects of a “significant energy action” on energy supply, distribution and use; reasonable alternatives to the action; and the expected effects of the alternatives on energy supply, distribution and use.

Under E.O. 13211, BOEM is required to prepare and submit to OMB a “Statement of Energy Effects” for “significant energy actions.” This should include a detailed statement of any adverse effects on energy supply, distribution, or use (including a shortfall in supply, price increases, and increased use of foreign supplies) expected to result from the action and a discussion of reasonable alternatives and their effects. This action is not subject to E.O. 13211, because it is not a significant regulatory action under E.O. 12866.

M. Congressional Review Act (CRA)

The CRA, 5 U.S.C. 801-808, established a mechanism to expedite congressional review of agency rules. The CRA generally provides that before a rule may take effect, the agency promulgating the rule must submit a rule report, which includes a copy of the rule, to each House of the Congress and to the Comptroller General of the United States. It is important to note that the CRA applies only to final rules; it does not apply to proposed rules. BOEM generally submits a report containing the rule and other required information to the U.S. Senate, the U.S. House of Representatives and the Comptroller General of the United States prior to publication of the rule in the Federal Register. A “major rule” cannot take effect until 60 days after it is published in the Federal Register or is submitted to Congress, whichever is later.

This rule is exempt from the CRA because it is a rule of department organization, procedure or practice that does not substantially affect the rights or obligations of non-agency parties (5 U.S.C. 804(3)).

List of Subjects

30 CFR Part 550

Administrative practice and procedure, Air pollution control, Environmental impact statements, Environmental protection, Federal lands, Government contracts, Investigations, Mineral resources, Oil and gas exploration, Oil pollution, Outer continental shelf, Penalties, Pipelines, Reporting and recordkeeping requirements, Rights-of-way, Sulfur.

30 CFR Part 551

Freedom of information, Oil and gas exploration, Outer continental shelf, Reporting and recordkeeping requirements, Research.

30 CFR Part 553

Administrative practice and procedure, Environmental protection, Financial responsibility, Intergovernmental relations, Liability, Limit of liability, Oil and gas exploration, Oil pollution, Outer continental shelf, Penalties, Pipelines, Reporting and recordkeeping requirements, Rights-of-way, Securities, Surety bonds.

30 CFR Part 556

Administrative practice and procedure, Environmental protection, Government contracts, Intergovernmental relations, Mineral resources, Oil and gas exploration, Outer continental shelf, Reporting and recordkeeping requirements, Rights-of-way.

30 CFR Part 560

Government contracts, Mineral resources, Mineral royalties, Oil and gas exploration, Outer continental shelf, Reporting and recordkeeping requirements.

30 CFR Part 580

Environmental assessment, Data, Geological and geophysical (G&G), Mineral resources, Outer continental shelf, Reporting and recordkeeping requirements, Research.

30 CFR Part 582

Administrative practice and procedure, Environmental protection, Government contracts, Intergovernmental relations, Mineral resources, Mineral royalties, Outer continental shelf, Penalties, Reporting and recordkeeping requirements, Surety bonds.

30 CFR Part 585

Administrative practice and procedure, Assessment plans, Coastal zone, Compliance, Electric power, Energy, Environmental protection, Government lease, Intergovernmental relations, Marine resources, Marine safety, Natural resources, Ocean resources, Offshore energy, Offshore structures, Outer continental shelf, Payments, Planning, Power resources, Renewable energy, Reporting and recordkeeping requirements, Revenue sharing, Rights-of-way, Right-of-use-and-easement, Wind energy.

This action by the Assistant Secretary is taken pursuant to an existing delegation of authority.

Adam G. Suess,
Acting Assistant Secretary, Land and Minerals Management.

For the reasons stated in the preamble, the Department of the Interior amends 30 CFR chapter V as follows:

PART 550—OIL AND GAS AND SULFUR OPERATIONS IN THE OUTER CONTINENTAL SHELF

1. The authority for part 550 continues to read as follows:

Authority: 30 U.S.C. 1751; 31 U.S.C. 9701; 43 U.S.C. 1334.

2. In § 550.105:

a. Remove the definitions for “Eastern Gulf of Mexico” and “Western Gulf of Mexico”; and

b. Add the definitions in alphabetical order for “Eastern Gulf of America” and “Western Gulf of America” to read as follows:

§ 550.105 Definitions.

* * * * *

Eastern Gulf of America means all OCS areas of the Gulf of America the BOEM Director decides are adjacent to the State of Florida. The Eastern Gulf of America is not the same as the Eastern Planning Area, an area established for OCS lease sales.

* * * * *

Western Gulf of America means all OCS areas of the Gulf of America except those the BOEM Director decides are adjacent to the State of Florida. The Western Gulf of America is not the same as the Western Planning Area, an area established for OCS lease sales.

* * * * *

§§ 550.115, 550.116, 550.201, 550.225, 550.269, 550.1495 [Amended]

3. In the table below, for each portion of the CFR indicated in the left column, remove the text indicated in the middle column from wherever it appears, and add the text indicated in the right column:

Section | Remove | Add
550.115 introductory text | GOM | GOA.
550.116 heading | Gulf of Mexico | Gulf of America.
550.116 introductory text | GOM | GOA.
550.201(a)(2) | Gulf of Mexico | Gulf of America.
550.201(a)(3) | GOM | GOA.
550.225(a)(2) | GOM | GOA.
550.269(a) | GOM | GOA.
550.1495(a)(2) | Gulf of Mexico | Gulf of America.

PART 551—GEOLOGICAL AND GEOPHYSICAL (G&G) EXPLORATIONS OF THE OUTER CONTINENTAL SHELF

4. The authority for part 551 continues to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

§ 551.5 [Amended]

5. In § 551.5, remove the term “Gulf of Mexico” from wherever it appears in the section, and add in its place the term “Gulf of America”.

PART 553—OIL SPILL FINANCIAL RESPONSIBILITY FOR OFFSHORE FACILITIES

6. The authority for part 553 continues to read as follows:

Authority: 33 U.S.C. 2704, 2716; 2716a; E.O. 12777, as amended.

§ 553.45 [Amended]

7. In § 553.45, remove the term “Gulf of Mexico” from wherever it appears in the section, and add in its place the term “Gulf of America”.

PART 556—LEASING OF SULFUR OR OIL AND GAS AND FINANCIAL ASSURANCE REQUIREMENTS IN THE OUTER CONTINENTAL SHELF

8. The authority for part 556 continues to read as follows:

Authority: 31 U.S.C. 9701; 42 U.S.C. 6213; 43 U.S.C. 1334.

§§ 556.102, 556.105, 556.309, 556.900 [Amended]

9. In the table below, for each portion of the CFR indicated in the left column, remove the text indicated in the middle column from wherever it appears, and add the text indicated in the right column:

Section | Remove | Add
556.102(e)(2) | Gulf of Mexico | Gulf of America.
556.105(a) | GOM | GOA.
556.105(a) | Gulf of Mexico | Gulf of America.
556.309(c) | Gulf of Mexico | Gulf of America.
556.900(b)(1) | Gulf of Mexico | Gulf of America.

* * * * *

10. In § 556.105, in paragraph (b), revise the definitions of “Central Planning Area (CPA)”, “Eastern Planning Area”, and “Western Planning Area” to read as follows:

§ 556.105 Acronyms and definitions.

* * * * *

(b) * * *

Central Planning Area (CPA) means that portion of the Gulf of America that lies southerly of Louisiana, Mississippi, and Alabama. Precise boundary information is available from the BOEM Leasing Division, Mapping and Boundary Branch (MBB).

* * * * *

Eastern Planning Area means that portion of the Gulf of America that lies southerly and westerly of Florida. Precise boundary information is available from the BOEM Leasing Division, Mapping and Boundary Branch (MBB).

* * * * *

Western Planning Area (WPA) means that portion of the Gulf of America that lies south and east of Texas. Precise boundary information is available from the Leasing Division, Mapping and Boundary Branch.

* * * * *

PART 560—OUTER CONTINENTAL SHELF OIL AND GAS LEASING

11. The authority for part 560 continues to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

§ 560.201 [Amended]

12. In § 560.201, remove the term “Gulf of Mexico” from wherever it appears in the section, and add in its place the term “Gulf of America”.

§ 560.221 [Amended]

13. In § 560.221, remove the term “Gulf of Mexico” from wherever it appears in the section, and add in its place the term “Gulf of America”.

PART 580—PROSPECTING FOR MINERALS OTHER THAN OIL, GAS, AND SULPHUR ON THE OUTER CONTINENTAL SHELF

14. The authority for part 580 continues to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

§ 580.13 [Amended]

15. In § 580.13, remove the term “Gulf of Mexico” from wherever it appears in the section, and add in its place the term “Gulf of America”.

PART 582—OPERATIONS IN THE OUTER CONTINENTAL SHELF FOR MINERALS OTHER THAN OIL, GAS, AND SULPHUR

16. The authority for part 582 continues to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

§ 582.40 [Amended]

17. In § 582.40, remove the term “Gulf of Mexico” from wherever it appears in the section, and add in its place the term “Gulf of America”.

PART 585—RENEWABLE ENERGY AND ALTERNATE USES OF EXISTING FACILITIES ON THE OUTER CONTINENTAL SHELF

18. The authority for part 585 continues to read as follows:

Authority: 43 U.S.C. 1337.

§ 585.700 [Amended]

19. In § 585.700, remove the term “Gulf of Mexico” from wherever it appears in the section, and add in its place the term “Gulf of America”.

[FR Doc. 2025-10068 Filed 6-5-25; 8:45 am]

BILLING CODE 4340-98-P